DEPARTMENT OF THE INTERIOR

Bureau of Land Management

[LLNVSO3100 L51010000 ER0000 LVRWF12F8740.241A; 13-08807; MO#450004530; TAS: 14X5017]

Notice of Availability of the Final Environmental Impact Statement for the Searchlight Wind Energy Project, Clark County, NV

AGENCY: Bureau of Land Management, Interior.

ACTION: Notice of availability.

SUMMARY: In accordance with the National Environmental Policy Act of 1969, as amended (NEPA), and the Federal Land Policy and Management Act of 1976, as amended, the Bureau of Land Management (BLM) has prepared a Final Environmental Impact Statement (EIS) for the Searchlight Wind Energy Project and by this notice is announcing its availability.

DATES: The BLM will not issue a final decision on the proposal for a minimum of 30 days from the date that the Environmental Protection Agency publishes its notice in the Federal Register.

ADDRESSES: Printed or electronic copies of the Final EIS are available on request from the BLM Southern Nevada District Office, 4701 N. Torrey Pines Drive, Las Vegas, NV 89130, phone 702-515-5173, or email to: BLM_NV_SNDO_SearchlightWindEnergyEIS@blm.gov. Interested persons may also review the Final EIS on the Internet at http://www.blm.gov/nv/st/en/fo/lvfo/blm_programs/energy/searchlight_wind_energy.html. Copies of the Final EIS are available for public inspection at the BLM Southern Nevada District Office.

FOR FURTHER INFORMATION CONTACT: Gregory Helseth, Renewable Energy Project Manager, telephone 702-515-5173; address 4701 N. Torrey Pines Drive, Las Vegas, NV 89130; email ghelseth@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Searchlight Wind Energy, LLC (SWE), a wholly-owned subsidiary of Duke Energy, applied to the BLM for a right-of-way (ROW) grant on public lands to develop a 200-megawatt (MW) wind energy facility. The ROW application area encompasses approximately 18,790 acres of BLM-administered public lands adjacent to Searchlight, Nevada, about 60 miles southeast of Las Vegas, in Clark County, Nevada. In connection with the SWE proposal, the Western Area Power Administration (Western) has submitted a ROW application to the BLM for construction and operation of an electrical interconnection facility/switchyard adjacent to the existing Davis-Mead transmission line. The Western application is also analyzed as part of the EIS. The proposed project is in conformance with the 1998 Las Vegas Resource Management Plan and Record of Decision.

The proposed wind turbines located on the SWE project would be up to 262-feet tall from the ground to the hub with blades extending an additional 153 feet, for a total turbine height of up to 415 feet. In addition to the wind turbines, the proposed project would require the construction of pad mounted transformers at the base of each turbine, underground collection lines, new access roads, two electrical substations, an overhead transmission line connecting the two substations, an electrical interconnection facility/switchyard owned and operated by Western, an operations and maintenance building, and temporary and long-term laydown areas. Three meteorological towers would remain on the site to measure the wind speed and direction across the site over the life of the project.

The applicant (SWE) has requested to interconnect its proposed project to the electrical transmission grid via Western's Davis-Mead 230-kilovolt transmission line. Western, a Federal agency, is participating in the EIS process as a cooperating agency and may use the EIS to support its decision to approve or deny the SWE interconnection request.

Three alternatives are analyzed in the Final EIS—a 96 wind turbine layout, an 87 wind turbine layout, and a no-action alternative. The 87 wind turbine alternative is the BLM's preferred alternative. In identifying the preferred alternative, the BLM considered all information that has been received consistent with its environmental review and ROW permitting responsibilities. The Final EIS describes and analyzes the project's site-specific impacts on air quality, biological resources, cultural resources, environmental justice, geological resources, health and human safety, hazardous materials, lands and realty, noise, noxious weeds, paleontological resources, recreation, socioeconomic resources, transportation, visual resources and water resources. On January 20, 2012, the BLM published the Notice of Availability for the Draft EIS for this proposal in the Federal Register (77 FR 2999). The BLM accepted public comments at three public meetings in Searchlight, Laughlin, and Boulder City, Nevada and by email, mail, and fax during a 90-day comment period. Seventy nine comment submissions were received from individuals, organizations, and agencies. Comments primarily pertained to the NEPA process, project alternatives, project description, project need, air quality, biological resources (desert tortoise, birds, and plants), cultural resources, cumulative impacts, geology, health and human safety, land use, noise, mitigation measures, recreation, transportation, socioeconomics, visual resources, and water. The BLM also received statements in support of, or opposition to, the proposal.

Comments on the Draft EIS received from the public and internal BLM review were considered and addressed as appropriate in the Final EIS. Public comments resulted in the addition of clarifying text, but did not significantly change the proposed alternatives.

Vanessa Hice,
Assistant Field Manager, Division of Lands.

Authority: 40 CFR 1506.6, 40 CFR 1506.10.

[FR Doc. 2012-30537 Filed 12-14-12; 4:15 pm]

BILLING CODE 4310-HC-P